DEPARTMENT OF TRANSPORTATION

Federal Motor Carrier Safety Administration

[Docket No. FMCSA-2022-0133]

Agency Information Collection Activities; Renewal of an Approved Information Collection: 391.41 CMV Driver Medication Form

AGENCY: Federal Motor Carrier Safety Administration (FMCSA), Department of Transportation (DOT).

ACTION: Notice and request for comments.

SUMMARY: In accordance with the Paperwork Reduction Act of 1995, FMCSA announces its plan to submit the renewal Information Collection Request (ICR) described below to the Office of Management and Budget (OMB) for review and approval and invites public comment. FMCSA requests approval to renew an ICR titled, “391.41 CMV Driver Medication Form.” This Information Collection (IC) is voluntary and may be utilized by Medical Examiners (MEs) responsible for issuing Medical Examiner's Certificates (MECs) to commercial motor vehicle (CMV) drivers. MEs that choose to use this IC do so to communicate with treating healthcare professionals who are responsible for prescribing certain medications, so that the ME fully understands the reasons the medications have been prescribed. The information obtained by the ME when utilizing this IC assists the ME in determining if the driver is medically qualified and ensures that there are no disqualifying medical conditions or underlying medical conditions and prescribed medications that could adversely affect their safe driving ability or cause incapacitation constituting a risk to the public.

DATES: Comments on this notice must be received on or before November 7, 2022.

ADDRESSES: You may submit comments identified by Federal Docket Management System Docket Number FMCSA-2022-0133 using any of the following methods:

• Federal eRulemaking Portal: http://www.regulations.gov. Follow the online instructions for submitting comments.

• Fax: (202) 493-2251.

• Mail: Dockets Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC 20590-0001 between 9 a.m. and 5 p.m. ET, Monday through Friday, except Federal holidays.

Instructions: All submissions must include the Agency name and docket number. For detailed instructions on submitting comments, see the Public Participation heading below. Note that all comments received will be posted without change to https://www.regulations.gov, including any personal information provided. Please see the Privacy Act heading below.

Docket: For access to the docket to read background documents or comments received, go to https://www.regulations.gov, and follow the online instructions for accessing the docket, or go to the street address listed above.

Privacy: In accordance with 5 U.S.C. 553(c), DOT solicits comments from the public to better inform its PRA decision-making process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “FAQ” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Ms. Christine A. Hydock, Medical Programs Division, DOT, FMCSA, West Building 6th Floor, 1200 New Jersey Avenue SE, Washington, DC 20590-0001; (202) 366-0421; christine.hydock@dot.gov.

SUPPLEMENTARY INFORMATION:

Background: FMCSA's primary mission is to reduce crashes, injuries, and fatalities involving large trucks and buses. The Secretary of Transportation has delegated to FMCSA its responsibility under 49 U.S.C. 31136 and 31502 to prescribe regulations that ensure CMVs are operated safely. As part of this mission, the Agency's Medical Programs Division works to ensure that CMV drivers engaged in interstate commerce are physically qualified and able to safely perform their work.

The public interest in, and right to have, safe highways requires the assurance that drivers of CMVs can safely perform the increased physical and mental demands of their duties. FMCSA's physical qualification standards provide this assurance by requiring drivers to be examined and medically certified as physically and mentally qualified to drive.

The purpose for this voluntary IC is to assist the ME in determining if the driver is medically qualified under § 391.41 and to ensure that there are no disqualifying medical conditions that could adversely affect their safe driving ability or cause incapacitation constituting a risk to the public. Under 49 CFR 391.41(b)(12), a person is physically qualified to drive a CMV if that person does not use any drug or substance identified in 21 CFR 1308.11 Schedule I, an amphetamine, a narcotic, or other habit-forming drug; and does not use any non-Schedule I drug or substance that is identified in the other Schedules in 21 CFR part 1308 except when the use is prescribed by a licensed medical practitioner, as defined in § 382.107, who is familiar with the driver's medical history and has advised the driver that the substance will not adversely affect the driver's ability to safely operate a CMV.

The use of this IC is at the discretion of the ME and facilitates communication with treating healthcare professionals who are responsible for prescribing certain medications so that the ME fully understands the reasons the medications have been prescribed. This information assists the ME in determining whether the underlying medical condition and the prescribed medication will impact the driver's safe operation of a CMV. Therefore, there is no required collection frequency.

The “391.41 CMV Driver Medication Form, MCSA-5895,” may be downloaded from the FMCSA website. Prescribing healthcare providers are also able to fax or scan and email the report to the certified ME. Consistent with OMB's commitment to minimizing respondents' recordkeeping and paperwork burdens and the increased use of secure electronic modes of communication, the Agency believes that approximately 50 percent of the “391.41 CMV Driver Medication Forms, MCSA-5895,” are transmitted electronically.

The information collected from the “391.41 CMV Driver Medication Form, MCSA-5895,” is used by the certified ME that requested the completion of the form. The “391.41 CMV Driver Medication Form, MCSA-5895,” is attached to the “Medical Examination Report Form, MCSA-5875,” which becomes part of the CMV driver's record maintained by the certified ME. The information is not available to the public. The Federal Motor Carrier Safety Regulations covering driver physical qualification records are found at § 391.43, which specify that a medical examination be performed on CMV drivers subject to part 391 who operate in interstate commerce. The results of the examination must be recorded in accordance with the requirements set forth in that section. MEs are required to maintain records of the CMV driver medical examinations they conduct.

Title: 391.41 CMV Driver Medication Form.

OMB Control Number: 2126-0064.

Type of Request: Renewal of a currently approved collection.

Respondents: Prescribing healthcare professionals.

Estimated Number of Respondents: Up to 1,163,160 (total number of prescribing healthcare providers in the U.S.).

Estimated Time per Response: 8 minutes.

Expiration Date: April 30, 2023.

Frequency of Response: Other (use of this IC is optional so there is no required collection frequency).

Estimated Total Annual Burden: 279,465 hours.

Public Comments Invited: You are asked to comment on any aspect of this IC, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator, Office of Research and Registration.

[FR Doc. 2022-19438 Filed 9-7-22; 8:45 am]

BILLING CODE 4910-EX-P